DEPARTMENT OF TRANSPORTATION

National Highway Traffic Safety Administration

[Docket No. NHTSA-2004-17942]

Decision that Certain Nonconforming Motor Vehicles Are Eligible for Importation

AGENCY: National Highway Traffic Safety Administration (NHTSA), DOT.

ACTION: Notice of decision by NHTSA that certain nonconforming motor vehicles are eligible for importation.

SUMMARY: This document announces decisions by NHTSA that certain motor vehicles not originally manufactured to comply with all applicable Federal motor vehicle safety standards are eligible for importation into the United States because they are substantially similar to vehicles originally manufactured for importation into and/or sale in the United States and certified by their manufacturers as complying with the safety standards, and they are capable of being readily altered to conform to the standards.

DATES: These decisions became effective on the dates specified in Annex A.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

NHTSA received petitions from registered importers to decide whether the vehicles listed in Annex A to this notice are eligible for importation into the United States. To afford an opportunity for public comment, NHTSA published notice of these petitions as specified in Annex A. The reader is referred to those notices for a thorough description of the petitions. No substantive comments were received in response to these notices. Based on its review of the information submitted by the petitioners, NHTSA has decided to grant the petitions.

Vehicle Eligibility Number for Subject Vehicles

The importer of a vehicle admissible under any final decision must indicate on the form HS-7 accompanying entry the appropriate vehicle eligibility number indicating that the vehicle is eligible for entry. Vehicle eligibility numbers assigned to vehicles admissible under this decision are specified in Annex A.

Final Decision

Accordingly, on the basis of the foregoing, NHTSA has decided that each motor vehicle listed in Annex A to this notice, which was not originally manufactured to comply with all applicable Federal motor vehicle safety standards, is substantially similar to a motor vehicle manufactured for importation into and/or sale in the United States, and certified under 49 U.S.C. 30115, as specified in Annex A, and is capable of being readily altered to conform to all applicable Federal motor vehicle safety standards.

Authority: 49 U.S.C. 30141(a)(1)(A) and (b)(1); 49 CFR 593.8; delegations of authority at 49 CFR 1.50 and 501.8.

Claude H. Harris,
Director, Office of Vehicle Safety Compliance.

Annex A—Nonconforming Motor Vehicles Decided to be Eligible for Importation

1. Docket No. NHTSA-2003-16629

Nonconforming Vehicles: 2000 Ford F150 Pickup Trucks.

Substantially Similar

U.S.-Certified Vehicles: 2000 Ford F150 Pickup Trucks.

Notice of Petition

Published at: 68 FR 69765 (December 15, 2003).

Vehicle Eligibility Number: VSP-425 (effective date January 20, 2004).

2. Docket No. NHTSA-2003-16672

Nonconforming Vehicles: 2003 Saab 9.3 Passenger Cars.

Substantially Similar

U.S.-Certified Vehicles: 2003 Saab 9.3 Passenger Cars.

Notice of Petition

Published at: 68 FR 69766 (December, 15, 2003).

Vehicle Eligibility Number: VSP-426 (effective date January 22, 2004).

3. Docket No. NHTSA-2003-16719

Nonconforming Vehicles: 1979-1980 Volkswagen Transporter Multipurpose Passenger Vehicles.

Substantially Similar

U.S.-Certified Vehicles: 1979-1980 Volkswagen Vanagon Multipurpose Passenger Vehicles.

Notice of Petition

Published at: 68 FR 71221 (December 22, 2003).

Vehicle Eligibility Number: VSP-427 (effective date January 29, 2004).

4. Docket No. NHTSA-2003-16720

Nonconforming Vehicles: 1996 Audi S6 Passenger Cars.

Substantially Similar

U.S.-Certified Vehicles: 1996 Audi S6 Passenger Cars.

Notice of Petition

Published at: 68 FR 71220 (December 22, 2003).

Vehicle Eligibility Number: VSP-428 (effective date January 29, 2004).

5. Docket No. NHTSA-2004-16888

Nonconforming Vehicles: 2003-2004 Mercedes Benz E Class (211) Passenger Cars.

Substantially Similar

U.S.-Certified Vehicles: 2003-2004 Mercedes Benz E Class (211) Passenger Cars.

Notice of Petition

Published at: 69 FR 2384 (January 15, 2004).

Vehicle Eligibility Number: VSP-429 (effective date February 27, 2004).

6. Docket No. NHTSA-2004-16999

Nonconforming Vehicles: 2002-2004 Aston Martin Vanquish Passenger Cars.

Substantially Similar

U.S.-Certified Vehicles: 2002-2004 Aston Martin Vanquish Passenger Cars.

Notice of Petition

Published at: 69 FR 6371 (February 10, 2004).

Vehicle Eligibility Number: VSP-430 (effective date March 18, 2004).

7. Docket No. NHTSA-2004-17021

Nonconforming Vehicles: 1997 Jeep Grand Cherokee Multipurpose Passenger Vehicles.

Substantially Similar

U.S.-Certified Vehicles: 1997 Jeep Grand Cherokee Multipurpose Passenger Vehicles.

Notice of Petition

Published at: 69 FR 7064 (February 12, 2004).

Vehicle Eligibility Number: VSP-431 (effective date March 18, 2004).

8. Docket No. NHTSA-2004-17142

Nonconforming Vehicles: 2000 Volvo C70 Passenger Cars.

Substantially Similar

U.S.-Certified Vehicles: 2000 Volvo C70 Passenger Cars.

Notice of Petition

Published at: 69 FR 8735 (February 25, 2004).

Vehicle Eligibility Number: VSP-434 (effective date April 1, 2004).

9. Docket No. NHTSA-2004-17141

Nonconforming Vehicles: 1999 Chevrolet Camaro Passenger Cars.

Substantially Similar

U.S.-Certified Vehicles: 1999 Chevrolet Camaro Passenger Cars.

Notice of Petition

Published at: 69 FR 8736 (February 25, 2004).

Vehicle Eligibility Number: VSP-435 (effective date April 1, 2004).

10. Docket No. NHTSA-2004-17181

Nonconforming Vehicles: 2003-2004 Ferrari Enzo Passenger Cars.

Substantially Similar

U.S.-Certified Vehicles: 2003-2004 Ferrari Enzo Passenger Cars.

Notice of Petition

Published at: 69 FR 9424 (February 27, 2004).

Vehicle Eligibility Number: VSP-436 (effective date April 1, 2004).

11. Docket No. NHTSA-2004-17179

Nonconforming Vehicles: 2000 Land Rover Discovery Multipurpose Passenger Vehicles.

Substantially Similar

U.S.-Certified Vehicles: 2000 Land Rover Discovery II Multipurpose Passenger Vehicles.

Notice of Petition

Published at: 69 FR 9423 (February 27, 2004).

Vehicle Eligibility Number: VSP-437 (effective date April 8, 2004).

12. Docket No. NHTSA-2004-17413

Nonconforming Vehicles: 2004 Porsche 911 (996) GT3 Passenger Cars.

Substantially Similar

U.S.-Certified Vehicles: 2004 Porsche 911 (996) GT3 Passenger Cars.

Notice of Petition

Published at: 69 FR 17029 (March 31, 2004).

Vehicle Eligibility Number: VSP-438 (effective date May 5, 2004).

13. Docket No. NHTSA-2004-17473

Nonconforming Vehicles: 2002-2004 Porsche 911 (996) Carrera Passenger Cars.

Substantially Similar

U.S.-Certified Vehicles: 2002-2004 Porsche 911 (996) Carrera Passenger Cars.

Notice of Petition

Published at: 69 FR 18418 (April 7, 2004).

Vehicle Eligibility Number: VSP-439 (effective date May 13, 2004).

14. Docket No. NHTSA-2004-17472

Nonconforming Vehicles: 1996 Honda CB750 (CB750F2T) Motorcycles.

Substantially Similar

U.S.-Certified Vehicles: 1996 Honda CB750 (CB750F2T) Motorcycles.

Notice of Petition

Published at: 69 FR 18417 (April 7, 2004).

Vehicle Eligibility Number: VSP-440 (effective date May 13, 2004).

[FR Doc. 04-13225 Filed 6-10-04; 8:45 am]

BILLING CODE 4910-59-P